DEPARTMENT OF COMMERCE

Patent and Trademark Office

Agency Information Collection Activities; Submission to the Office of Management and Budget (OMB) for Review and Approval; Comment Request; National Summer Teacher Institute (NSTI) and Master Teacher of Invention and Intellectual Property Education Program (MTIP)

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on May 13, 2024 during a 60-day comment period (89 FR 41396). This notice allows for an additional 30 days for public comment.

Agency: United States Patent and Trademark Office, Department of Commerce.

Title: National Summer Teacher Institute (NSTI) and Master Teacher of Invention and Intellectual Property Education Program (MTIP).

OMB Control Number: 0651-0077.

Needs and Uses: The United States Patent and Trademark Office (USPTO) conducts the National Summer Teacher Institute (NSTI) on Innovation, STEM, and Intellectual Property. This program, which focuses on innovation, STEM, entrepreneurship, and intellectual property, is offered in support of USPTO's ongoing education and outreach programming and Department of Commerce Innovation initiatives. The Institute, launched in 2014, is part of the USPTO's ongoing efforts to foster innovation, competitiveness and economic growth, domestically and abroad, by providing relevant intellectual property, innovation, and invention education resources to school administrators, teachers, students, and parents.

In 2023, USPTO introduced the Master Teacher of Invention and Intellectual Property Education Program (MTIP) (previously published as Master Teacher in Intellectual Property Program in the 60-day notice) to align and support the USPTO's mission to foster innovation, competitiveness, domestic and international economic growth, and deliver invention IP training to educators across the nation. The MTIP builds a network of qualified NSTI participants and intellectual property educators and enables them to become teacher-leaders. These teacher leaders in turn provide professional development to U.S. educators who seek to learn more about invention and IP education. MTIP teacher-leaders share USPTO resources and practical classroom experience they learned through their implementation of lessons learned at the NSTI.

USPTO facilitates the enhancement of internal and external relations, including stakeholder partnerships and collaborations, and support for Government-wide efforts to promote STEM education initiatives. In order to obtain a broad range of participants for the NSTI and MTIP, the USPTO must collect data related to courses taught, teaching experience, and school district demographics.

Both NSTI and MTIP combine experiential training tools, practices, and project-based learning models to support elementary, middle, and high school teachers in incorporating concepts of making, inventing, entrepreneurship, and innovation into classroom instruction. Recent focuses include the creation and protection of intellectual property; including inventions, knowledge discovery, creative ideas, and expressions of the human mind that may have commercial value and are protectable under patent, trademark, copyright, or trade secret laws. Intellectual property is modeled as both a teaching and learning platform to help inspire and motivate student achievement in science, technology, engineering, and mathematics.

This information collection covers data gathered from applicants and participants in the NSTI and MTIP programs. The USPTO gathers this information from program applications, and participant surveys, workshops, and webinars. The application collects data which the USPTO uses to determine who will be accepted into the respective programs. The participant survey is used to gather feedback from participants for future program enhancements, while the webinar survey allows the USPTO to understand the particular needs and interests of participants.

To account for the recent addition of the MTIP program, the name of this information collection has been changed from “National Summer Teacher Institute” to “National Summer Teacher Institute (NSTI) and Master Teacher of Invention and Intellectual Property Education Program (MTIP)”.

Forms:

• PTO/NSTI/001 (NSTI Application)

• PTO/NSTI/002 (NSTI Participant Survey)

• PTO/NSTI/003 (NSTI Webinar Survey)

• PTO/MTIP/001 (MTIP Application)

• PTO/MTIP/002 (MTIP Participant Survey)

• PTO/MTIP/003 (MTIP Webinar Survey)

Type of Review: Extension of a currently approved information collection.

Affected Public: Individuals or households.

Respondent's Obligation: Voluntary.

Frequency: On occasion.

Estimated Number of Annual Respondents: 14,000 respondents.

Estimated Number of Annual Responses: 27,400 responses.

Estimated Time per Response: The USPTO estimates that the responses in this information collection will take the public approximately between 8 minutes (0.13 hours) and 30 minutes (0.5 hours) to complete. This includes the time to gather the necessary information, create the document, and submit the completed request to the USPTO.

Estimated Total Annual Respondent Burden Hours: 5,998 hours.

Estimated Total Annual Respondent Non-hourly Cost Burden: $0.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0077.

Further information can be obtained by:

• Email: InformationCollection@uspto.gov. Include “0651-0077 information request” in the subject line of the message.

• Mail: Justin Isaac, Office of the Chief Administrative Officer, United States Patent and Trademark Office, P.O. Box 1450, Alexandria, VA 22313-1450.

Lisa Lawn,
Director, Records and Information Compliance Program Office, Office of the Chief Administrative Officer, United States Patent and Trademark Office.

[FR Doc. 2024-15871 Filed 7-17-24; 8:45 am]

BILLING CODE 3510-16-P